DEPARTMENT OF TRANSPORTATION

[Docket No. DOT-OST-2016-0033]

Agency Request for Emergency Approval of an Information Collection

AGENCY: Office of the Secretary of Transportation (OST), DOT.

ACTION: Notice and request for comments.

SUMMARY: In compliance with the Paperwork Reduction Act of 1995 (44 U.S.C. 3501 et seq.), the Department of Transportation (DOT) provides notice that it will submit an information collection requests (ICR) to the Office of Management and Budget (OMB) for emergency approval of a proposed information collection. Upon receiving the requested six-month emergency approval by OMB, the Office of the Secretary of Transportation (OST) will follow the normal PRA procedures to obtain extended approval for this proposed information collection. The collection of information is necessary in order to receive applications for grant funds pursuant to Section 1105 of the Fixing America's Surface Transportation (FAST) Act of 2015, which was signed into law on December 4, 2015. Section 1105 establishes a new program for OST to provide Supplemental Discretionary Grants for a Nationally Significant Freight and Highway Projects (NSFHP) program. The Department will also refer to NSFHP grants as Fostering Advancements in Shipping and Transportation for the Long-term Achievement of National Efficiencies (FASTLANE) grants. The FAST Act provides specific deadlines for this program, including a statutory 60-day Congressional notification requirement, which is no later than July 30, 2016. In order to ensure that the NSFHP grants are awarded in an expeditious manner and in the timeframes established by the FAST Act, the Department requests approval of an information collection using OMB's emergency processing system to meet Paperwork Reduction Act (PRA) requirements.

Information related to this ICR, including applicable supporting documentation may be obtained by contacting the NSFHP program manager via email at NSFHP@dot.gov.

DATES: Comments should be submitted as soon as possible upon publication of this notice in the Federal Register. Comments and questions should be directed to the Office of Information and Regulatory Affairs (OIRA), Attn: OST OMB Desk Officer, 725 17th Street NW., Washington, DC 20503. Comments and questions about the ICR identified below may be transmitted electronically to OIRA at oira_submissions@omb.eop.gov.

SUPPLEMENTARY INFORMATION:

OMB Control Number: 2105-XXXX

Title: Supplemental Discretionary Grants for a Nationally Significant Freight and Highway Projects (NSFHP) program, or NSFHP program.

Type of Review: Emergency information collection request.

Expected Number of Respondents: Approximately 200.

Frequency: The Department expects that this information collection will occur up to five times—once per fiscal year—from FY 2016 through FY 2020.

Estimated Average Burden per Response: 100 hours.

Estimated Total Annual Burden: 20,000.

Abstract: On December 4, 2015, President Obama signed into law the Fixing America's Surface Transportation Act, or “FAST Act.” It is the first law enacted in over ten years that provides long-term funding certainty for surface transportation. The FAST Act authorized at $4.5 billion for fiscal years (FY) 2016 through 2020, including $800 million for FY 2016 to be awarded by the Department of Transportation (the “Department”) on a competitive basis to projects of national or regional significance. The funds provided by NSFHP program will be awarded on a competitive basis to projects that have a significant impact on the Nation, a metropolitan area, or a region. On or about the date hereof, the Department published a solicitation for applications for NSFHP grants. The solicitation announces the availability of funding for NSFHP grants, project selection criteria, application requirements and the deadline for submitting applications.

Authority: The Paperwork Reduction Act of 1995; 44 U.S.C. Chapter 35, as amended; and 49 CFR 1:48.

Issued in Washington, DC, on February 26, 2016.
John Augustine,
Director, Office of Infrastructure and Innovative Finance.

[FR Doc. 2016-04802 Filed 3-3-16; 8:45 am]

BILLING CODE 4910-9X-P